ADVISORY COUNCIL ON HISTORIC PRESERVATION

Meeting

AGENCY: Advisory Council on Historic Preservation.

ACTION: Notice of meeting.

SUMMARY: Notice is hereby given that the Advisory Council on Historic Preservation will meet on Friday, August 9, 2002. The meeting will be held in the Zuni Ballroom, Inn at Loretto, 211 Old Santa Fe Trail, Santa Fe, New Mexico, beginning at 9 a.m.

The Council was established by the National Historic Preservation Act of 1966 (16 U.S.C. 470) to advise the President and the Congress on matters relating to historic preservation and to comment upon Federal, federally assisted, and federally licensed undertakings having an effect upon properties listed in or eligible for inclusion in the National Register of Historic Places. The Council's members are the Architect of the Capitol; the Secretaries of the Interior, Agriculture, Defense, and Transportation; the Administrators of the Environmental Protection Agency and General Services Administration; the Chairman of the National Trust for Historic Preservation; the President of the National Conference of State Historic Preservation Officers, a Governor; a Mayor; a Native Hawaiian; and eight non-Federal members appointed by the President.

The agenda for the meeting includes the following:

I. Chairman's Welcome

II. Report of the Executive Committee

A. FY 2004 Budget Strategy

B. Committee Restructuring

III. Report on the Preservation Initiatives Committee

A. Cooperative Agreement with Department of Agriculture

B. Followup from Heritage Tourism Session

C. Heritage Areas Legislation

IV. Report on the Federal Agency Programs Committee

A. Federal Program Improvement Priorities and Initiatives

B. Coordination between Section 4(f) of the Department of Transportation Act and Section 106

C. Section 106 Cases

D. Cooperative Agreement with the General Services Administration

V. Report of the Communications, Education, and Outreach Committee

A. Historic Preservation Awards

B. Council Publications Program

VI. Chairman's Report

A. Historic Preservation Executive Order

B. Preserve America Initiative

VII. Executive Director's Report

A. Technical Amendments to Section 106 Regulations

B. FY 2003 Appropriations Process

VIII. New Business

IX. Adjourn

Note: The meetings of the Council are open to the public. If you need special accommodations due to a disability, please contact the Advisory Council on Historic Preservation, 1100 Pennsylvania Ave., NW., Room 809, Washington, DC 202-606-8503, at least seven (7) days prior to meeting.

For further information contact: Additional information concerning the meeting is available from the Executive Director, Advisory Council on Historic Preservation, 1100 Pennsylvania Ave., NW., #809, Washington, DC 20004.

Dated: July 24, 2002.
John M. Fowler,
Executive Director.

[FR Doc. 02-19128 Filed 7-29-02; 8:45 am]

BILLING CODE 4310-10-M